DEPARTMENT OF THE INTERIOR

National Park Service

[NPS-WASO-NAGPRA-NPS0038013; PPWOCRADN0-PCU00RP14.R50000]

Notice of Intended Repatriation: California State University, Sacramento, Sacramento, CA

AGENCY: National Park Service, Interior.

ACTION: Notice.

SUMMARY: In accordance with the Native American Graves Protection and Repatriation Act (NAGPRA), the California State University, Sacramento intends to repatriate certain cultural items that meet the definition of objects of cultural patrimony and that have a cultural affiliation with the Indian Tribes or Native Hawaiian organizations in this notice.

DATES: Repatriation of the cultural items in this notice may occur on or after July 3, 2024.

ADDRESSES: Dr. Mark Wheeler, Senior Advisor to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in the summary or related records. The National Park Service is not responsible for the determinations in this notice.

Abstract of Information Available

A total of 291 cultural items have been requested for repatriation.

In 1956-1959, archaeologists associated with Sacramento State College (now California State University, Sacramento) removed cultural items from several localities prior to the construction of Monticello Dam by the US Bureau of Reclamation. The resulting collections were subsequently housed at California State University, Sacramento under accession 81-183. The 19 objects of cultural patrimony from CA-NAP-47 are faunal remains, flaked stone, and ground stone objects. The 19 objects of cultural patrimony from NAP-79 are faunal remains, flaked stone, ground stone, and unmodified stone objects. The three objects of cultural patrimony from NAP-88 are ground stone objects. The 16 objects of cultural patrimony from NAP-99 are faunal remains, flaked stone objects, and unmodified stone. The one object of cultural patrimony from NAP-100 is a biface. The one object of cultural patrimony from NAP-108 is a projectile point. The 38 objects of cultural patrimony from NAP-109 are flaked and ground stone objects, a shell bead, and unmodified stone. The five objects of cultural patrimony from NAP-112 are ground stone objects. The two objects of cultural patrimony from NAP-113 are flaked and unmodified stone. The three objects of cultural patrimony from S-NAP-3 are ground stone objects. The 21 objects of cultural patrimony for S-NAP-4 are baked clay objects, flaked and ground stone objects, and unmodified stone. An unknown number of objects may be missing from the collection, and California State University, Sacramento continues to look for them.

At an unknown date, California State University, Sacramento came into possession of objects from CA-SOL-30 (accession 81-383). The 25 objects of cultural patrimony are flaked stone, ground stone, modified stone, modified shell, modified bone, and thermally-altered rock. An unknown number of objects may be missing from the collection, and California State University, Sacramento continues to look for them.

In 1981, archaeologists associated with California State University, Sacramento collected objects during survey and monitoring work at CA-SOL-55 (accession 81-102). The 26 objects of cultural patrimony are flaked stone and ground stone objects. An unknown number of objects may be missing from the collection, and California State University, Sacramento continues to look for them.

In 1980, a student associated with California State University, Sacramento collected objects from CA-SOL-281 (accession 81-102). The 112 objects of cultural patrimony are faunal remains, flaked stone, thermally-altered rock, and unmodified stone and concretions. An unknown number of objects may be missing from the collection, and California State University, Sacramento continues to look for them.

Determinations

The California State University, Sacramento has determined that:

• The 291 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Yocha Dehe Wintun Nation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 3, 2024. If competing requests for repatriation are received, the California State University, Sacramento must determine the most appropriate requestor prior to repatriation. Requests for joint repatriation of the cultural items are considered a single request and not competing requests. The California State University, Sacramento is responsible for sending a copy of this notice to the Indian Tribes and Native Hawaiian organizations identified in this notice and to any other consulting parties.

Authority: Native American Graves Protection and Repatriation Act, 25 U.S.C. 3004 and the implementing regulations, 43 CFR 10.9.

Dated: May 22, 2024.
Melanie O'Brien,
Manager, National NAGPRA Program.

[FR Doc. 2024-12073 Filed 5-31-24; 8:45 am]

BILLING CODE 4312-52-P